DEPARTMENT OF HEALTH AND HUMAN SERVICES

Health Resources and Services Administration

Meeting of the Advisory Committee on Training in Primary Care Medicine and Dentistry

AGENCY: Health Resources and Service Administration (HRSA), Department of Health and Human Services (HHS).

ACTION: Notice of meeting.

SUMMARY: In accordance with the Federal Advisory Committee Act, notice is hereby given that a meeting is scheduled for the Advisory Committee on Training in Primary Care Medicine and Dentistry (ACTPCMD). This meeting will be open to the public. Information about ACTPCMD and the agenda for this meeting can be obtained by accessing the ACTPCMD Web site at http://www.hrsa.gov/advisorycommittees/bhpradvisory/ACTPCMD.

DATES: March 6, 2017, 9:00 a.m.-5:00 p.m. ET and March 7, 2017, 8:30 a.m.-5:00 p.m. ET

ADDRESSES: This meeting will be held in person and offer virtual access through teleconference and webinar. The address for the meeting is 5600 Fishers Lane, Rockville, Maryland 20857.

• The conference call-in number is 1-800-619-2521. Passcode: 9271697.

• The webinar link is https://hrsa.connectsolutions.com/actpcmd.

Status: This advisory committee meeting will be open to the public.

FOR FURTHER INFORMATION CONTACT: Anyone requesting information regarding ACTPCMD should contact Dr. Kennita Carter, Designated Federal Official, Division of Medicine and Dentistry, Bureau of Health Workforce, HRSA, in one of three ways: (1) Send a request to the following address: Dr. Kennita Carter, Designated Federal Official, Division of Medicine and Dentistry, HRSA, 5600 Fishers Lane, 15N-116, Rockville, Maryland 20857; (2) call 301-945-3505; or (3) send an email to KCarter@hrsa.gov.

SUPPLEMENTARY INFORMATION: The ACTPCMD provides advice and recommendations to the Secretary of HHS (Secretary) on policy, program development, and other matters of significance concerning the activities under sections 747 and 748 of title VII of the Public Health Service Act (PHS Act). The ACTPCMD prepares an annual report describing the activities of the Committee, including findings and recommendations made by the Committee regarding the activities under sections 747 and 748. The annual report is submitted to the Secretary, and Chairmen and ranking members of the Senate Committee on Health, Education, Labor and Pensions and the House of Representatives Committee on Energy and Commerce. The Committee also develops, publishes, and implements performance measures and guidelines for longitudinal evaluations for programs authorized under Part C of Title VII of the PHS Act, and recommends appropriation levels for programs under this Part.

During the March 6-7, 2017 meeting, the ACTPCMD will discuss issues related to the Committee report on the integration of behavioral health into primary care and oral health training; and clinical trainee and faculty well-being and resiliency. Agenda items are subject to change.

Members of the public will have the opportunity to provide comments. Public participants may submit written statements in advance of the scheduled meeting. Oral comments will be honored in the order they are requested and may be limited as time allows. Requests to make oral comments or provide written comments to the ACTPCMD should be sent to Dr. Kennita Carter, Designated Federal Official, using the contact information above at least 3 business days prior to the meeting.

The 5600 Fishers Lane building requires a security screening on entry. To facilitate your access to the building, please contact Dr. Kennita Carter at the contact information listed above. Individuals who plan to attend and need special assistance, such as sign language interpretation or other reasonable accommodations, should notify Dr. Kennita Carter at least 10 days prior to the meeting.

Jason E. Bennett,
Director, Division of the Executive Secretariat.

[FR Doc. 2017-02833 Filed 2-10-17; 8:45 am]

BILLING CODE 4165-15-P